DEPARTMENT OF ENERGY

[FE Docket No. PP-270]

Application for Presidential Permit: Lake Erie Link Limited Liability Company

AGENCY: Office of Fossil Energy, DOE.

ACTION: Notice of application.

SUMMARY: Lake Erie Link Limited Liability Company (“LEL LLC”) has applied for a Presidential permit to construct, operate, maintain, and connect an electric transmission line across the United States border with Canada.

DATES: Comments, protests, or requests to intervene must be submitted on or before August 8, 2002.

ADDRESSES: Comments, protests, or requests to intervene should be addressed as follows: Office of Coal & Power Import/Export (FE-27), Office of Fossil Energy, U.S. Department of Energy, 1000 Independence Avenue, SW., Washington, DC 20585-0001.

FOR FURTHER INFORMATION CONTACT: Dr. Jerry Pell (Program Office) 202-586-3362 (or by electronic mail to: Jerry.Pell@hq.doe.gov) or Michael T. Skinker (Program Attorney) 202-586-2793.

SUPPLEMENTARY INFORMATION: The construction, operation, maintenance and connection of facilities at the international border of the United States for the transmission of electric energy between the United States and a foreign country is prohibited in the absence of a Presidential permit issued pursuant to Executive Order (EO) 10485, as amended by EO 12038.

On June 18, 2002, LEL LLC filed an application with the Office of Fossil Energy (FE) of the Department of Energy (DOE) for a Presidential permit. The proposed LEL Project would consist of up to three underwater High Voltage Direct Current (HVDC) transmission systems under Lake Erie, each with a transfer capability of 325 megawatts (MW). The LEL Project would connect the control areas of the Ontario Independent Electricity Market Operator (IMO) with the control area of the Pennsylvania-New Jersey-Maryland Interconnection (PJM). In Ontario, the LEL Project would connect to the 230,000-volt (230-kV) bulk power system at the Nanticoke switchyard. In the U.S., the LEL Project would connect to the 345-kV bulk power system at the Erie West substation in Springfield Township, Pennsylvania.

The stated purpose of the LEL Project is to develop a fully controllable, bi-directional, electric transmission interconnection with a total transfer capability of up to 975 MW between Ontario and the U.S. Each of the HVDC transmission systems would consist of several miles of buried land-based HVDC cables, approximately 68 miles (109 kilometers (km)) of cable buried underwater in Lake Erie, and converter terminal facilities in Ontario and Pennsylvania.

The proposed LEL Project is exclusively a transmission system interconnection. The proposed project neither includes construction of any generation facilities in either country, nor is it dedicated or directly connected to any particular generation facility in either country. LEL LLC would sell the rights to transmit electricity over the LEL Project through an “open season” bidding process that has been approved in the Federal Energy Regulatory Commission's (FERC) LEL Project Authorization of February 13, 2002, Docket No. ER02-406-0002. LEL LLC states that it would not own or take title to any electric energy transmitted over the LEL Project.

Although LEL LLC's application to FERC contemplated a possible separate cable system constructed to Ohio, that option is not part of this application. LEL LLC represents that it has postponed further study of the Ohio cable system pending the results of the open season process. This Application proposes to construct cable systems exclusively to Pennsylvania.

Since the restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities constructed pursuant to Presidential permits to provide access across the border in accordance with the principles of comparable open access and non-discrimination contained in the Federal Power Act and articulated in FERC Order No. 888, as amended (“Promoting Wholesale Competition Through Open Access Non-Discriminatory Transmission Services by Public Utilities”). In furtherance of this policy, DOE intends to condition any Presidential permit issued in this proceeding on compliance with these open access principles.

Procedural Matters

Any person desiring to become a party to this proceeding or to be heard by filing comments or protests to this application should file a petition to intervene, comment or protest at the address provided above in accordance with § 385.211 or § 385.214 of the FERC's rules of practice and procedures (18 CFR 385.211, 385.214). Fifteen copies of each petition and protest should be filed with the DOE on or before the date listed above.

Additional copies of such petitions to intervene or protests also should be filed directly with: Michael D. Ernst, on behalf of Lake Erie Link LLC, 110 Turnpike Road, Suite 300, Westborough, MA 01581-2864, and with George H. Williams, Jr., Cameron McKenna LLP, 2175 K Street, NW., Washington, DC 20037-1809.

Before a Presidential permit may be issued or amended, the DOE must determine that the proposed action will not adversely impact on the reliability of the U.S. electric power supply system. In addition, DOE must consider the environmental impacts of the proposed action (i.e., granting the Presidential permit, with any conditions and limitations, or denying the permit) pursuant to the National Environmental Policy Act of 1969 (NEPA). DOE also must obtain the concurrence of the Secretary of State and the Secretary of Defense before taking final action on a Presidential permit application.

The NEPA compliance process is a cooperative, non-adversarial, process involving members of the public, state and tribal governments and the Federal government. The process affords all persons interested in or potentially affected by the environmental consequences of a proposed action an opportunity to present their views, which will be considered in the preparation of the environmental documentation for the proposed action. Intervening and becoming a party to this proceeding will not create any special status for the petitioner with regard to the NEPA process. Also, participation in the NEPA process does not create party status in this proceeding. Notice of upcoming NEPA activities and information on how the public can participate in those activities will appear in the Federal Register.

Copies of this application will be made available, upon request, for public inspection and copying at the address provided above. In addition, the application may be reviewed or downloaded from the Fossil Energy Home Page at: http://www.fe.doe.gov. Upon reaching the Fossil Energy Home page, select “Electricity Regulation” and then “Pending Proceedings” from the options menu.

Issued in Washington, DC, on July 2, 2002.
Anthony J. Como,
Deputy Director, Electric Power Regulation, Office of Coal & Power Import/Export, Office of Coal & Power Systems, Office of Fossil Energy.

[FR Doc. 02-17121 Filed 7-8-02; 8:45 am]

BILLING CODE 6450-01-P